SECURITIES AND EXCHANGE COMMISSION

[Securities Exchange Act of 1934; Release No. 34-83856/August 15, 2018]

Order Granting Petition for Review and Scheduling Filing of Statements

In the Matter of Financial Industry Regulatory Authority, Inc.

For an Order Granting the Approval of Proposed Rule Change to Adopt FINRA Rule 1113 (Restriction Pertaining to New Member Applications) and to Amend the FINRA Rule 9520 Series (Eligibility Proceedings) (File No. SR-FINRA-2010-056)

This matter comes before the Securities and Exchange Commission (“Commission”) on petition to review the approval, pursuant to delegated authority, of the Financial Industry Regulatory Authority, Inc. (“FINRA”) proposed rule change to adopt FINRA Rule 1113 (Restriction Pertaining to New Member Applications) and to amend the FINRA Rule 9520 Series (Eligibility Proceedings).

On November 15, 2010, the Commission issued a notice of filing of the proposed rule change filed with the Commission pursuant to Section 19(b)(1) of the Securities Exchange Act of 1934 (“Exchange Act”) ¹ and Rule 19b-4 ² thereunder.³ The proposed rule change was published for comment in the Federal Register on November 22, 2010.⁴ On February 18, 2011, after consideration of the record for the proposed rule change, the Division of Trading and Markets (“Division”), pursuant to delegated authority,⁵ approved the proposed rule change (“Approval Order”).⁶

¹ 15 U.S.C. 78s(b)(1).

² 17 CFR 240.19b-4.

³ See Exchange Act Release No. 63316 (Nov. 15, 2010), 75 FR 71166 (Nov. 22, 2010) (File No. SR-FINRA-2010-056).

⁴ See Id.

⁵ 17 CFR 200.30 3(a)(12).

⁶ See Exchange Act Release No. 63933 (Feb. 18, 2011), 76 FR 10629 (Feb. 25, 2011).

On March 4, 2011, pursuant to Commission Rule of Practice 430,⁷ Manuel P. Asensio (“Asensio”) filed a petition for review of the Approval Order. Pursuant to Commission Rule of Practice 431(e), the Approval Order was stayed by the filing with the Commission of a notice of intention to petition for review.⁸ Pursuant to Rule 431 of the Rules of Practice,⁹ the petition for review of the Approval Order is granted. Further, the Commission hereby establishes that any party to the action or other person may file a written statement in support of or in opposition to the Approval Order on or before September 5.

⁷ 17 CFR 201.430.

⁸ 17 CFR 201.431(e).

⁹ 17 CFR 201.431.

For the reasons stated above, it is hereby:

Ordered that Asensio's petition for review of the Division's action to approve the proposed rule change by delegated authority be Granted; and

It is further Ordered that any party or other person may file a statement in support of or in opposition to the action made pursuant to delegated authority on or before September 5.

It is further Ordered that the Approval Order shall remain stayed pending further order by the Commission.

By the Commission.
Eduardo A. Aleman,
Assistant Secretary.

[FR Doc. 2018-17958 Filed 8-20-18; 8:45 am]

BILLING CODE 8011-01-P